DEPARTMENT OF TRANSPORTATION

Federal Aviation Administration

14 CFR Part 39

[Docket No. FAA-2013-0351; Directorate Identifier 2009-SW-049-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France (Eurocopter) Model AS350B, BA, B1, B2, B3, and D, and Model AS355E, F, F1, F2, and N helicopters with certain tail rotor (T/R) blades. This proposed AD would require installing additional rivets to secure each T/R blade trailing edge tab (tab), and inspecting for evidence of debonding of the tab after the rivets are installed. This proposed AD is prompted by reports of T/R blade tab debonding. The actions specified by this proposed AD are intended to prevent loss of a T/R blade tab, which could result in excessive vibration and loss of control of the helicopter.

DATES: We must receive comments on this proposed AD by June 21, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The Direction Generale de l'Aviation Civile (DGAC), which is the aviation authority for France, has issued DGAC AD No. F-2004-178, dated November 10, 2004, for the Eurocopter AS 350B, BA, BB, B1, B2, B3, and D helicopters, fitted with certain T/R blades. DGAC has also issued AD No. F-2004-176, dated November 10, 2004, for the Eurocopter Model AS 355E, F, F1, F2, and N helicopters with certain T/R blades. DGAC advises of reports of T/R blade tab debonding, and that the loss of the tab leads to a significant increase in the aircraft's vibration level. As a result, the ADs mandate compliance with the manufacturer's service information to install additional rivets on the tabs.

FAA's Determination

These helicopters have been approved by the aviation authority of France and are approved for operation in the United States. Pursuant to our bilateral agreement with France, the European Aviation Safety Agency, which is the Technical Agent for the Member States of the European Union, has notified us of the unsafe condition described in the DGAC AD. We are proposing this AD because we evaluated all known relevant information and determined that an unsafe condition is likely to exist or develop on other products of the same type design.

Related Service Information

We reviewed Eurocopter Alert Service Bulletin (ASB) No. 64.00.05, Revision 2, dated February 15, 2007, for Model AS350B, BA, BB, B1, B2, B3, and D helicopters, and ASB No. 64.00.04, Revision 2, dated February 15, 2007, for Model AS355E, F, F1, F2, and N helicopters.

These ASBs specify, within 100 flying hours without exceeding three months, installing additional rivets on T/R blade tabs and inspecting each tab for debonding after the rivets have been installed. DGAC classified these ASBs as mandatory and issued AD No. F-2004-176 and AD No. F2004-178 to ensure the continued airworthiness of these helicopters.

Proposed AD Requirements

This proposed AD would require installing additional rivets on each T/R blade tab and inspecting the tab for debonding. If there is debonding of the tab, this proposed AD would require replacing the tab with an airworthy tab before further flight.

Differences Between This Proposed AD and the DGAC AD

This proposed AD does not include the Model AS350 BB because it does not have an FAA-issued type certificate. This proposed AD requires compliance within 100 hours TIS. The DGAC ADs require compliance within 100 flying hours “without exceeding 3 months.”

Costs of Compliance

We estimate that this proposed AD affects 654 helicopters of U.S. registry and that labor costs average $85 a work-hour. Based on these estimates, we expect the following costs:

• Installing rivets and inspecting for tab debonding would take one hour for a labor cost of $85. Parts would cost $100 for a total cost of $185 per helicopter. The cost for the U.S. fleet would total $120,990.

• Replacing the tab with an airworthy tab, if needed, would take four hours for a total labor cost of $340. Parts would cost $100, for a total cost of $440 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Europcopter France (Eurocopter): Docket No. FAA-2013-0351; Directorate Identifier 2009-SW-049-AD.

(a) Applicability

This AD applies to Eurocopter Model AS350B, BA, B1, B2, B3, D, and AS355E, F, F1, F2, and N helicopters with a tail rotor (T/R) blade, part number (P/N) 355A12-0040-00, 355A-12-0040-01, 355A12-0040-02, 355A12-0040-03, 355A-12-0040-04, 355A12-0040-05, 355A-12-0040-07, 355A-12.0040-08, or 355A12-0040-14, all serial numbers (S/N); or P/N 355A12-0050-04, 355A12-0050-10, or 355A12-0050-12, with a S/N 8400 through 9224, certificated in any category.

(b) Unsafe Condition

This AD defines the unsafe condition as T/R blade trailing edge tab (tab) debonding. This condition could result in excessive vibration of the helicopter and loss of control of the helicopter.

(c) Comments Due Date

Comments are due June 21, 2013.

(d) Compliance

You are responsible for performing each action required by this AD within the specified compliance time unless it has already been accomplished prior to that time.

(e) Required Actions

Within 100 hours time-in-service, install additional rivets on the trailing edge tab of each T/R blade, according to the following procedures, referencing Figure 1 of Eurocopter Alert Service Bulletin (ASB) No. 64.00.05, Revision 2, dated February 15, 2007, or ASB No. 64.00.04, Revision 2, dated February 15, 2007, whichever is applicable to your model helicopter:

(1) Lightly sand the area to be drilled, using No. 80 then No. 220 sandpaper.

(2) Locate and drill eight 2.5 mm-diameter holes (T): 4 holes (T) 12 mm from the existing rivets (E) and on the centerline of the existing rivets (E), then 4 holes (T) 24 mm from the existing rivets (E) and on the centerline of the existing rivets (E).

(3) Deburr and clean the area around the drilled holes.

(4) Install 8 rivets (1) on tab (L). Any installation direction of the rivets is permissible (pressure face or suction face of the T/R blade).

(5) Inspect the tab for debonding.

(i) If there is no debonding, paint the area.

(ii) If there is debonding, replace the tab.

(f) Alternative Methods of Compliance (AMOCs)

(1) The Manager, Safety Management Group, Rotorcraft Directorate, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency AD No. F-2004-176 and AD No. F-2004-178, both dated November 10, 2004.

(h) Subject

Joint Aircraft Service Component (JASC) Code: 6410, Tail rotor blades.

Issued in Fort Worth, Texas, on April 11, 2013.
Lance T. Gant,
Acting Directorate Manager, Rotorcraft Directorate, Aircraft Certification Service.

[FR Doc. 2013-09417 Filed 4-19-13; 8:45 am]

BILLING CODE 4910-13-P